ENVIRONMENTAL PROTECTION AGENCY

[EPA-HQ-OPP-2013-00536; FRL-9391-8]

CGI Federal, Inc., and Custom Applications Management; Transfer of Data

AGENCY: Environmental Protection Agency (EPA).

ACTION: Notice.

SUMMARY: This notice announces that pesticide related information submitted to EPA's Office of Pesticide Programs (OPP) pursuant to the Federal Insecticide, Fungicide, and Rodenticide Act (FIFRA) and the Federal Food, Drug, and Cosmetic Act (FFDCA), including information that may have been claimed as Confidential Business Information (CBI) by the submitter, will be transferred to CGI Federal, Inc., and its subcontractor, Custom Applications Management, in accordance with the CBI regulations. CGI Federal, Inc., and its subcontractor, Custom Applications Management, have been awarded a contract to perform work for OPP, and access to this information will enable CGI Federal, Inc., and its subcontractor, Custom Applications Management, to fulfill the obligations of the contract.

DATES: CGI Federal, Inc., and its subcontractor, Custom Applications Management, will be given access to this information on or before July 22, 2013.

FOR FURTHER INFORMATION CONTACT: Mario Steadman, Information Technology and Resources Management Division (7502P), Office of Pesticide Programs, Environmental Protection Agency, 1200 Pennsylvania Ave. NW., Washington, DC 20460-0001; telephone number: (703) 305-8338; email address: steadman.mario@epa.gov.

SUPPLEMENTARY INFORMATION:

I. General Information

A. Does this action apply to me?

This action applies to the public in general. As such, the Agency has not attempted to describe all the specific entities that may be affected by this action.

B. How can I get copies of this document and other related information?

The docket for this action, Custom Applications Management, identified by docket identification (ID) number EPA-HQ-OPP-2013-00536 is available at http://www.regulations.gov or at the Office of Pesticide Programs Regulatory Public Docket (OPP Docket) in the Environmental Protection Agency Docket Center (EPA/DC), EPA West Bldg., Rm. 3334, 1301 Constitution Ave. NW., Washington, DC 20460-0001. The Public Reading Room is open from 8:30 a.m. to 4:30 p.m., Monday through Friday, excluding legal holidays. The telephone number for the Public Reading Room is (202) 566-1744, and the telephone number for the OPP Docket is (703) 305-5805. Please review the visitor instructions and additional information about the docket available at http://www.epa.gov/dockets.

II. Contractor Requirements

Under Contract No. GS-35F-4797H, CGI Federal, Inc., and its subcontractor, Custom Applications Management will perform. The Contractor will develop applications, Web sites, Web pages, web-based applications and databases, in accordance with EPA policies and related Federal standards and procedures. The Contractor will provide search engine enhancements and support. The Contractor shall manage the full life-cycle of application and web projects efficiently and cost effectively. The contractor shall provide requirement analysis, design, development, testing, documentation, and implementation as defined. The Contractor shall provide graphic and media support to those customers who require it. The Contractor shall also provide graphic and media support for the EPA Web Workgroup conferences.

OPP has determined that access by CGI Federal, Inc., and its subcontractor, Custom Applications Management, to information on all pesticide chemicals is necessary for the performance of this contract.

Some of this information may be entitled to confidential treatment. The information has been submitted to EPA under FIFRA sections 3, 4, 6, and 7 and under FFDCA sections 408 and 409.

In accordance with the requirements of 40 CFR 2.307(h)(2), the contract with CGI Federal, Inc., and its subcontractor, Custom Applications Management, prohibits use of the information for any purpose not specified in the contract; prohibits disclosure of the information to a third party without prior written approval from the Agency; and requires that each official and employee of the contractor sign an agreement to protect the information from unauthorized release and to handle it in accordance with the FIFRA Information Security Manual. In addition, CGI Federal, Inc., and its subcontractor, Custom Applications Management, are required to submit for EPA approval a security plan under which any CBI will be secured and protected against unauthorized release or compromise. No information will be provided to CGI Federal, Inc., and its subcontractor, Custom Applications Management, until the requirements in this document have been fully satisfied. Records of information provided to CGI Federal, Inc., and its subcontractor, Custom Applications Management, will be maintained by EPA Project Officers for this contract. All information supplied to CGI Federal, Inc., and its subcontractor, Custom Applications Management, by EPA for use in connection with this contract will be returned to EPA when CGI Federal, Inc., and its subcontractor, Custom Applications Management, have completed their work.

List of Subjects

Environmental protection, Business and industry, Government contracts, Government property, Security measures.

Dated: June 26, 2013.
Oscar Morales,
Director, Information Technology and Resources Management Division, Office of Pesticide Programs.

[FR Doc. 2013-16926 Filed 7-16-13; 8:45 am]

BILLING CODE 6560-50-P